COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: December 08, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 10/4/2024 (89 FR 80896), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7520-01-463-1991—Pen, Chain with Holder and Adhesive Base, Blue, Medium Point

Authorized Source of Supply: Alphapointe, Kansas City, MO

Contracting Activity: GSA/FAS ADMIN SVCS ACQUISITION BR(2, NEW YORK, NY

NSN(s)—Product Name(s):

8470-01-530-0868—Strap Assembly, Chin, Advanced Combat Helmet, 4 point, Foliage Green

Authorized Source of Supply: VisionCorps, Lancaster, PA

Authorized Source of Supply: South Texas Lighthouse for the Blind, Corpus Christi, TX

Authorized Source of Supply: Dallas Lighthouse for the Blind, Inc., Dallas, TX

Authorized Source of Supply: Lions Services, Inc., Charlotte, NC

Authorized Source of Supply: Travis Association for the Blind, Austin, TX

Authorized Source of Supply: San Antonio Lighthouse for the Blind, San Antonio, TX

Contracting Activity: DLA TROOP SUPPORT, PHILADELPHIA, PA

Contracting Activity: DLA TROOP SUPPORT, PHILADELPHIA, PA

NSN(s)—Product Name(s):

8470-01-530-0868—Strap Assembly, Chin, Advanced Combat Helmet, 4-point, Foliage Green

Authorized Source of Supply: San Antonio Lighthouse for the Blind, San Antonio, TX

NSN(s)—Product Name(s):

7510-00-782-6275—Envelope, Transparent, 8¾″ x 11¾″

Authorized Source of Supply: NEWVIEW Oklahoma, Inc, Oklahoma City, OK

Contracting Activity: GSA/FAS ADMIN SVCS ACQUISITION BR(2, NEW YORK, NY

NSN(s)—Product Name(s):

7510-00-782-6275—Envelope, Transparent, 8¾″ x 11¾″

Authorized Source of Supply: Winston-Salem Industries for the Blind, Inc, Winston-Salem, NC

Contracting Activity: GSA/FAS ADMIN SVCS ACQUISITION BR(2, NEW YORK, NY

Service(s)

Service Type: Janitorial/Custodial

Mandatory for: GSA Center: Buildings 811 and 812, Auburn, WA

Authorized Source of Supply: Northwest Center, Seattle, WA

Contracting Activity: GENERAL SERVICES ADMINISTRATION, FPDS AGENCY COORDINATOR

Michael R. Jurkowski,
Director, Business Operations.

[FR Doc. 2024-26016 Filed 11-7-24; 8:45 am]

BILLING CODE 6353-01-P